DEPARTMENT OF ENERGY

Office of Energy Efficiency and Renewable Energy

10 CFR Part 431

[Docket No. EERE-2006-STD-0125]

RIN 1904-AB58

Energy Conservation Standards for Refrigerated Bottled or Canned Beverage Vending Machines: Public Meeting and Availability of the Framework Document

AGENCY: Office of Energy Efficiency and Renewable Energy, U.S. Department of Energy.

ACTION: Notice of public meeting and availability of the Framework Document.

SUMMARY: The U.S. Department of Energy (DOE or Department) will hold an informal public meeting to present its proposed methodologies for conducting this rulemaking, discuss issues relevant to this rulemaking proceeding, and initiate stakeholder interaction in this rulemaking proceeding. The Department is also interested in information that will assist it in establishing energy conservation standards for refrigerated bottled or canned beverage vending machines. (These types of equipment are referred to collectively hereafter as “beverage vending machines.”) The Department encourages written comments on these subjects. This effort is the result of the directive in the Energy Policy Act of 2005 to DOE to establish energy conservation standards for such equipment by August 8, 2009. To inform stakeholders and facilitate this process, DOE has prepared a Framework Document, a draft of which is available at http://www.eere.energy.gov/buildings/appliance_standards.

DATES: The Department will hold a public meeting on July 11, 2006, from 9 a.m. to 5 p.m. EDT in Washington, DC. Any person who requesting to speak at the public meeting should submit a request to speak before 4 p.m., July 3, 2006. The Department must receive a signed original and an electronic copy of statement to be given at the public meeting before 4 p.m., July 3, 2006. Written comments on the Framework Document are welcome and encouraged following the public meeting and should be submitted by July 27, 2006.

ADDRESSES: The public meeting will be held at the U.S. Department of Energy, Forrestal Building, Room 1E-245, 1000 Independence Avenue, SW., Washington, DC 20585-0121. (Please note that foreign nationals participating in the public meeting are subject to advance security screening procedures. If a foreign national wishes to participate in the public meeting, please inform DOE of this fact as soon as possible by contacting Ms. Brenda Edwards-Jones at (202) 586-2945 so that the necessary procedures can be completed.)

Stakeholders may submit comments, identified by docket number EERE-2006-STD-0125 and/or RIN number 1904-AB58, by any of the following methods:

• Federal eRulemaking Portal: http://www.regulations.gov. Follow the instructions for submitting comments.

• E-mail: beveragevending.rulemaking@ee.doe.gov. Include EERE-2006-STD-0125 and/or RIN 1904-AB58 in the subject line of the message.

• Mail: Ms. Brenda Edwards-Jones, U.S. Department of Energy, Building Technologies Program, Mailstop EE-2J, Framework Document for Commercial Refrigeration Equipment, EERE-2006-STD-0125 and/or RIN 1904-AB58, 1000 Independence Avenue, SW., Washington, DC 20585-0121. Telephone: (202) 586-2945. Please submit one signed paper original.

• Hand Delivery/Courier: Ms. Brenda Edwards-Jones, U.S. Department of Energy, Building Technologies Program, Room 1J-018, 1000 Independence Avenue, SW, Washington, DC 20585-0121.

Instructions: All submissions received must include the agency name and docket number or Regulatory Information Number (RIN) for this rulemaking.

Docket: For access to the docket to read background documents or comments received, go to the U.S. Department of Energy, Forrestal Building, Room 1J-018 (Resource Room of the Building Technologies Program), 1000 Independence Avenue, SW., Washington, DC 20585-0121, Telephone Number (202) 586-9127, between 9 a.m. and 4 p.m., Monday through Friday, except Federal holidays. Please call Ms. Brenda Edwards-Jones at the above telephone number for additional information regarding visiting the Resource Room. Please note that the Department's Freedom of Information Reading Room (formerly Room 1E-190 at the Forrestal Building) is no longer housing rulemaking materials.

FOR FURTHER INFORMATION CONTACT: James Raba, U.S. Department of Energy, Office of Energy Efficiency and Renewable Energy, Building Technologies, EE-2J, 1000 Independence Avenue, SW., Washington, DC 20585-0121, (202) 586-8654. E-mail: Jim.Raba@ee.doe.gov. Thomas DePriest, U.S. Department of Energy, Office of General Counsel, GC-72, 1000 Independence Avenue, SW., Washington, DC 20585-0121, (202) 586-9507. E-mail: thomas.depriest@hq.doe.gov.

SUPPLEMENTARY INFORMATION: Part B of Title III of the Energy Policy and Conservation Act of 1975 (EPCA), 42 U.S.C 6291 et seq., established an energy conservation program for consumer products other than automobiles. The National Energy Conservation Policy Act of 1978 (NECPA), 42 U.S.C. 6311 et seq., amended EPCA to add Part C of Title III, which established an energy conservation program for certain industrial equipment. The Energy Policy Act of 1992 (EPACT 1992), Public Law 102-486, included amendments to EPCA, that expanded Title III to include certain commercial equipment. The recent Energy Policy Act of 2005 (EPACT 2005), Public Law 109-58, updated several existing standards and test procedures, prescribed definitions, standards, and test procedures for certain new covered products and covered equipment, and mandated that the Secretary of Energy (the Secretary) commence rulemakings to develop test procedures and standards for certain other new covered products and covered equipment.

In particular, section 135(c)(4) of EPACT 2005 amends section 325 of EPCA by adding, in part, new subsection 325(v)(2), (3) and (4), 42 U.S.C. 6295(v)(2), (3) and (4), which direct the Secretary to issue by rule, no later than August 8, 2009, energy conservation standards for refrigerated bottled or canned beverage vending machines manufactured on or after August 8, 2012. In addition, section 135(b) of EPACT 2005 amends section 323 of EPCA by adding, in part, new subsections 323(b)(15) (42 U.S.C.6293(b)(15)) and 323(f) (6293(f)), which, respectively, state that the test procedure for refrigerated bottled or canned beverage vending machines shall be based on American National Standards Institute (ANSI)/American Society of Heating, Refrigerating and Air-Conditioning Engineers (ASHRAE) Standard 32.1-2004, “Methods of Testing for Rating Vending Machines for Bottled, Canned or Other Sealed Beverages,” and direct the Secretary to prescribe testing requirements for this equipment not later than August 8, 2007. The Department intends to address the test procedure and testing requirements for beverage vending machines under a separate rulemaking.

To begin this rulemaking, the Department prepared a Framework Document to explain the issues, analyses, and process it is considering for the development of energy conservation standards for beverage vending machines. The main focus of the public meeting will be to discuss the analyses and issues contained in various sections of the Framework Document. For each item listed, the Department will make a presentation with some discussion to follow. In addition, the Department will also make a brief presentation on the rulemaking process for beverage vending machines. The Department encourages those who wish to participate in the public meeting to obtain the Framework Document and be prepared to discuss its contents. A copy of the draft Framework Document is available at http://www.eere.energy.gov/buildings/appliance_standards. However, public meeting participants need not limit their comments to the topics in the Framework Document. The Department is also interested in receiving comments concerning other relevant issues that participants believe would affect energy conservation standards for beverage vending machines. The Department also welcomes all interested parties, whether or not they participate in the public meeting, to submit in writing by July 27, 2006, comments and information on the matters addressed in the Framework Document and on other matters relevant to consideration of standards for beverage vending machines.

The public meeting will be conducted in an informal conference-style. During the public meeting, there shall be no discussion of proprietary information, costs or prices, market shares, or other commercial matters regulated by the U.S. antitrust laws.

After the public meeting and the expiration of the period for submitting written statements, the Department will begin collecting data, conducting the analyses as discussed in the Framework Document and reviewing the comments received.

Anyone who would like to participate in the public meeting, receive meeting materials, or be added to the DOE mailing list to receive future notices and information regarding beverage vending machines, should contact Ms. Brenda Edwards-Jones at (202) 586-2945.

Issued in Washington, DC, on June 22, 2006.
Alexander A. Karsner,
Assistant Secretary, Energy Efficiency and Renewable Energy.

[FR Doc. 06-5838 Filed 6-27-06; 8:45 am]

BILLING CODE 6450-01-P